DEPARTMENT OF DEFENSE

Department of the Air Force

[Docket ID: USAF-2023-HQ-0016]

Submission for OMB Review; Comment Request

AGENCY: Department of the Air Force, Department of Defense (DoD).

ACTION: 30-Day information collection notice.

SUMMARY: The DoD has submitted to the Office of Management and Budget (OMB) for clearance the following proposal for collection of information under the provisions of the Paperwork Reduction Act.

DATES: Consideration will be given to all comments received by March 28, 2024.

ADDRESSES: Written comments and recommendations for the proposed information collection should be sent within 30 days of publication of this notice to www.reginfo.gov/public/do/PRAMain. Find this particular information collection by selecting “Currently under 30-day Review—Open for Public Comments” or by using the search function.

FOR FURTHER INFORMATION CONTACT: Reginald Lucas, (571) 372-7574, whs.mc-alex.esd.mbx.dd-dod-information-collections@mail.mil.

SUPPLEMENTARY INFORMATION:

Title; Associated Form; and OMB Number: Air Force Recruiting Information Support System—Total Force (AFRISS-TF); OMB Control Number 0701-0150.

Type of Request: Extension.

Number of Respondents: 100,000.

Responses per Respondent: 1.

Annual Responses: 100,000.

Average Burden per Response: 15 minutes.

Annual Burden Hours: 25,000.

Needs and Uses: Recruiting requires the collection of specific information on prospective Air Force, Air National Guard, and Air Force Reserve Command enlistees, officers, and health profession personnel prior to entering into duty. The information is used to create the initial personnel record that is used to prescreen and qualify enlistees, line officers, and health professionals fit for service and ultimately induct them into one of the three Air Force commands. The information is also collected to process security clearances for those individuals requiring clearances for sensitive and classified positions. The respondents are recruiting applicants of the Air Force who may seek more information or request copies of their personal information. The collection instrument is a list of questions asked by the recruiter that cannot be found on the SF-86; information taken from the SF-86 can complete the rest of the recruit's application. Collections instruments are completed by applicants and recruiters into the system of record as applicable to their recruiting and application purposes. All completed instruments of collection reside in the system of record which has safeguards in place to protect privacy information. The result of successful information collection is the successful accession of an applicant in the Air Force and the safe keeping of said applicant's personal information.

Affected Public: Individuals or households.

Frequency: On occasion.

Respondent's Obligation: Voluntary.

OMB Desk Officer: Ms. Jasmeet Seehra.

You may also submit comments and recommendations, identified by Docket ID number and title, by the following method:

• Federal eRulemaking Portal: http://www.regulations.gov. Follow the instructions for submitting comments.

Instructions: All submissions received must include the agency name, Docket ID number, and title for this Federal Register document. The general policy for comments and other submissions from members of the public is to make these submissions available for public viewing on the internet at http://www.regulations.gov as they are received without change, including any personal identifiers or contact information.

DOD Clearance Officer: Mr. Reginald Lucas.

Requests for copies of the information collection proposal should be sent to Mr. Lucas at whs.mc-alex.esd.mbx.dd-dod-information-collections@mail.mil.

Dated: February 21, 2024.
Aaron T. Siegel,
Alternate OSD Federal Register Liaison Officer, Department of Defense.

[FR Doc. 2024-03981 Filed 2-26-24; 8:45 am]

BILLING CODE 6001-FR-P